DEPARTMENT OF LABOR

Employment and Training Administration

[TA-W-63,939]

Hewlett Packard, Inkjet And Web Solutions Division, Including On-Site Leased Workers from Cable Consultants, d/b/a Black Box Network Services, Corvallis, Oregon; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 19, 2008, applicable to workers of Hewlett Packard, Inkjet and Web Solutions Division, including on-site leased workers from CDI, Manpower, Securitas Security Services USA and Volt, Corvallis, Oregon. The notice was published in the Federal Register on October 3, 2008 (73 FR 57682).

At the request of the petitioners, the Department reviewed the certification for workers of the subject firm. The workers are engaged in the production of inkjet supplies, particularly in jet printer cartridge heads.

New information shows that workers leased from Cable Consultants, Inc., d/b/a Black Box Network Services were employed on-site at the Corvallis, Oregon, location of Hewlett Packard, Inkjet and Web Solutions Division. The Department has determined that these workers were sufficiently under the control of the subject firm to be considered leased workers.

Based on these findings, the Department is amending this certification to include leased workers from Cable Consultants, Inc., d/b/a Black Box Network Services working on-site at the Inkjet and Web Solutions Division, Corvallis, Oregon, location of the subject firm.

The amended notice applicable to TA-W-63,939 is hereby issued as follows:

“All workers of Hewlett Packard, Inkjet and Web Solutions Division, including on-site leased workers from CDI, Manpower, Securitas Security Services USA, Volt, and Cable Consultants, d/b/a Black Box Network Services, Corvallis, Oregon, engaged in the production of inkjet supplies, who became totally or partially separated from employment on or after August 26, 2007, through September 19, 2010, are eligible to apply for adjustment assistance under Section 223 of the Trade Act of 1974, and are also eligible to apply for alternative trade adjustment assistance under Section 246 of the Trade Act of 1974.”

Signed at Washington, DC, this 4th day of December 2008.
Elliott S. Kushner,
Certifying Officer, Division of Trade Adjustment Assistance.

[FR Doc. E8-29613 Filed 12-12-08; 8:45 am]

BILLING CODE 4510-FN-P